ENVIRONMENTAL PROTECTION AGENCY

40 CFR Part 52

[R04-OAR-2004-GA-0003-200427; FRL-7897-9]

Approval and Promulgation of Implementation Plans Georgia: Vehicle Miles Traveled State Implementation Plan for the Atlanta 1-Hour Ozone Nonattainment Area

AGENCY: Environmental Protection Agency (EPA).

ACTION: Proposed rule.

SUMMARY: EPA is proposing to approve a State Implementation Plan (SIP) revision submitted by the State of Georgia, through the Georgia Environmental Protection Division (EPD) on June 30, 2004, regarding the Severe Area Vehicles Miles Traveled (VMT) SIP for the Atlanta 1-Hour Ozone Nonattainment Area for the purpose of offsetting any growth in emissions from growth in VMT as required by the Clean Air Act (CAA or the Act) as Amended in 1990. The State demonstrated that emissions from increases in VMT, or numbers of vehicle trips, within the Atlanta area did not rise above an established ceiling by 2004. The rationale for this proposed approval is set forth below.

DATES: Written comments must be received on or before May 12, 2005.

ADDRESSES: Submit your comments, identified by Regional Material in EDocket (RME) ID No. R04-OAR-2004-GA-0003, by one of the following methods:

1. Federal eRulemaking Portal: http://www.regulations.gov. Follow the on-line instructions for submitting comments.

2. Agency Web site: http://docket.epa.gov/rmepub/ RME, EPA's electronic public docket and comment system, is EPA's preferred method for receiving comments. Once in the system, select “quick search,” then key in the appropriate RME Docket identification number. Follow the on-line instructions for submitting comments.

3. E-mail: martin.scott@epa.gov.

4. Fax: 404-562-9019.

5. Mail: “R04-OAR-2004-GA-0003”, Regulatory Development Section, Air Planning Branch, Air, Pesticides and Toxics Management Division, U.S. Environmental Protection Agency, Region 4, 61 Forsyth Street, SW., Atlanta, Georgia 30303-8960.

6. Hand Delivery or Courier. Deliver your comments to: Scott M. Martin, Regulatory Development Section, Air Planning Branch, Air, Pesticides and Toxics Management Division 12th floor, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to RME ID No. R04-OAR-2004-GA-0003. EPA's policy is that all comments received will be included in the public docket without change and may be made available online at http://docket.epa.gov/rmepub/, including any personal information provided, unless the comment includes information claimed to be Confidential Business Information (CBI) or other information whose disclosure is restricted by statute. Do not submit information that you consider to be CBI or otherwise protected through RME, regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at the Regulatory Development Section, Air Planning Branch, Air, Pesticides and Toxics Management Division, U.S. Environmental Protection Agency, Region 4, 61 Forsyth Street, SW., Atlanta, Georgia 30303-8960. EPA requests that if at all possible, you contact the contact listed in the FOR FURTHER INFORMATION CONTACT section to schedule your inspection. The Regional Office's official hours of business are Monday through Friday, 8:30 to 4:30, excluding Federal holidays.

FOR FURTHER INFORMATION CONTACT: Scott M. Martin, Regulatory Development Section, Air Planning Branch, Air, Pesticides and Toxics Management Division, U.S. Environmental Protection Agency, Region 4, 61 Forsyth Street, SW., Atlanta, Georgia 30303-8960. The telephone number is (404) 562-9036. Mr. Martin can also be reached via electronic mail at martin.scott@epa.gov.

SUPPLEMENTARY INFORMATION: The use of “we,” “us,” or “our” in this document refers to EPA.

Table of Contents

I. Background

II. What Is a VMT Offset SIP?

III. Analysis of State Submittal

—Calculation of Vehicle Miles Traveled 1999-2004

—Calculation of Emissions

—Control Measures Modeled

—Estimated Emissions

—Conclusion

IV. Proposed Action

V. Statutory and Executive Order Reviews

I. Background

The Atlanta 1-hour ozone nonattainment area consists of the following counties: Cherokee, Clayton, Cobb, Coweta, DeKalb, Douglas, Fayette, Forsyth, Fulton, Gwinnett, Henry, Paulding and Rockdale. Atlanta was classified as a serious 1-hour ozone nonattainment area on November 6, 1991, (see 56 FR 56694), with an attainment deadline of 1999. Atlanta failed to attain the 1-hour ozone National Ambient Air Quality Standard (NAAQS) by November 15, 1999, and was reclassified from a serious to a severe 1-hour ozone nonattainment area effective January 1, 2004, (see 68 FR 55469). In addition to being required to meet SIP revision requirements for marginal, moderate, and serious ozone nonattainment areas, Georgia is required to submit plans required for severe areas, which includes submission of a VMT Offset SIP under section 182(d)(1)(A) of the Act.

On February 1, 2005, the State submitted to EPA a redesignation request and maintenance plan for the Atlanta 1-hour ozone nonattainment area that is based on actual ozone monitoring data for the years 2002 to 2004. The data submitted indicates that no violations of the one-hour ozone NAAQS occurred in Atlanta between 2002 and the attainment year of 2004. EPA is addressing Georgia's redesignation request through a separate notice.

II. What Is a VMT Offset SIP?

Section 182(d)(1)(A) of the Act requires States containing ozone nonattainment areas classified as severe, pursuant to section 181(a) of the Act, to submit a SIP revision that identifies and adopts transportation control strategies and TCMs necessary to offset increases in emissions resulting from growth in VMT (the VMT offset SIP), and to obtain reductions in motor vehicle emissions as necessary (in combination with other emission reduction requirements) to comply with the Act's Reasonable Further Progress (RFP) milestones and attainment demonstration requirements (RFP and attainment demonstration SIPs). Our interpretation of section 182(d)(1)(A) is discussed in the April 16, 1992, General Preamble (57 FR 13498). Section 182(d)(1)(A) of the Act specifies submission of the VMT Offset SIP by November 15, 1992, for any severe and above ozone nonattainment area. However, EPA has concluded that section 182(i) of the Act authorizes EPA to adjust applicable deadlines (other than attainment dates) to the extent such adjustment is necessary or appropriate to assure consistency among the required submissions of new requirements applicable to an area which has been reclassified. In the final rule reclassifying the Atlanta area to severe nonattainment, EPA established the submission deadline of June 30, 2004, for the section 182(d)(1) SIP revision as EPA set for all the other new SIP revision elements applicable to reclassified area. See (68 FR 55469). EPA's action today relates only to the VMT offset SIP requirement from section 182(d)(1)(A) that the State demonstrate whether TCMs are needed to offset increases in emissions resulting from growth of VMTs. The other requirements of section 182(d)(1)(A), whether TCMs are needed to obtain reductions in motor vehicle emissions as necessary (in combination with other emission reduction requirements) to comply with the Act's RFP milestones and attainment demonstration requirements, are being addressed by EPA in a separate notice.

III. Analysis of State Submittal

In the General Preamble EPA explained how states are to demonstrate that the VMT requirement is satisfied. Sufficient measures must be adopted so projected motor vehicle VOC emissions will stay beneath a “ceiling level” established through modeling of mandated transportation-related controls. When growth in VMT and vehicle trips would otherwise cause a motor vehicle emissions upturn, this upturn must be prevented, or offset, by TCMs. If projected total motor vehicle emissions during the ozone season in one year are not higher than during the previous ozone season due to the control measures in the SIP, the VMT offset requirement is satisfied. In order to make these projections, vehicle emissions are modeled to represent the effects of required reductions from the following mandatory programs: an enhanced inspection and maintenance (I/M) program, Phase 2 reid vapor pressure (RVP) fuel, reformulated gasoline, and the federal motor vehicle control program (FMVCP). (See 57 FR 13498 at 13521-13523, April 16, 1992.) As described in the General Preamble, the purpose of section 182(d)(1)(A) of the Act is to prevent growth in motor vehicle emissions from negating the emissions reduction benefits of the federally mandated programs in the Act. EPA believes it is appropriate to interpret the VMT Offset SIP provisions of the Act to account for how states can practicably comply with each of the provision's elements.

Calculation of Vehicle Miles Traveled 1999-2004

Section III A(5)(d) of the General Preamble says that states should project motor vehicle emissions for their VMT SIP revisions in accordance with EPA's “Section 187” guidance. Section 187 VMT Forecasting and Tracking Guidance, U.S. EPA, January, 1992, http://www.epa.gov/oms/transp/vmttrack/vmtguide.zip. According to part 1.3 of the Section 187 guidance, “EPA has chosen to specify the use of the [Highway Performance Monitoring System(HPMS)] approach in this guidance for purposes of tracking * * * VMT * * * For forecasting VMT, network models were chosen as the best method. Though these models are not considered to be a superior source of historical area-wide VMT * * * they are considered to be the best predictor of growth factors for VMT forecasts.”

For this analysis, EPD estimated emissions using motor vehicle activity data from two sources. “Actual” VMT obtained from the Georgia Department of Transportation (GDOT) were used where available, i.e., for the years 1999 through 2002. The VMT in these “445 reports” are count-based estimates which are reported to Federal Highway Administration (FHWA) each year. A State's HPMS data is required to be submitted annually, by June 15 of the year following the data year. The 445 reports are available on this GDOT Web page: http://www.dot.state.ga.us/dot/plan-prog/transportation_data/400reports/index.shtml.

For the years 2003 and 2004, VMT estimates from the Atlanta Regional Commission's (ARC) network-based travel demand model were used to develop growth factors. These growth factors were then applied to 2002 “actual” VMT to obtain projected VMT. The same ARC model used in developing mobile source emissions estimates for Georgia's recently submitted Post-1999 Rate of Progress (ROP) plan was used. This model was substantially revised and enhanced. See “Travel Demand Model Enhancements Reflected in Projected Emissions Inventories” in Appendix A of the Post-1999 ROP Plan for details: http://www.dnr.state.ga.us/dnr/environ/plans_files/plans/app_a_mobile_modeling.pdf in 2003 and underwent a significant recalibration to Census 2000 data, including updated population and employment estimates.

Consistent with EPA guidance “HPMS-based annual average daily VMT should * * * be adjusted for seasonal effects * * *”. VMT for ozone non-attainment areas should be adjusted to the summer season. * * *” Pursuant to Section 3.4.1.3.3 of EPA's guidance entitled “Procedures for Emission Inventory Preparation, Volume IV: Mobile Sources,” EPA-420-R-92-009, U.S. EPA, Office of Air and Radiation, Office of Mobile Sources, 1992, http://www.epa.gov/otaq/invntory/r92009.pdf, annual average daily vehicle miles traveled were converted to summer daily vehicle miles traveled (SDVMT) using seasonal adjustment factors obtained from GDOT.

Table 1 below shows 13-county total SDVMT for the years 1999 through 2004.

Table 1.—13-County Atlanta Area Summer Daily Vehicle Miles Traveled, 1999 to 2004
Year | SDVMT
1999 | 118,478,178
2000 | 121,147,325
2001 | 123,985,255
2002 | 125,091,783
2003 | 128,763,973
2004 | 132,436,163

Calculation of Emissions

In consultation between EPD and EPA Region 4, it was decided that, in fulfilling the VMT SIP requirement, Georgia could calculate motor vehicle emissions from 1999, the attainment deadline for serious ozone nonattainment areas, through Atlanta's severe area attainment year of 2004. Although the Act's requirement only applies to VOC emissions, nitrogen oxide (NOX) as well as VOC emissions were included separately in the analysis.

EPD performed an analysis of projected highway mobile source emissions for the years of 1999 through 2004 for the 13-county Atlanta nonattainment area which demonstrated that projected motor vehicle VOC and NOX emissions were not higher during the ozone season of any one year than during the ozone season in the preceding year. For each year from 1999 through 2004, typical summer day highway mobile source emissions inventories were estimated for the 13-county 1-hour ozone nonattainment area. These inventories reflect the most recent planning assumptions available and include all Federal and State mobile source control rules, including enhanced I/M, Stage II vapor recovery, federal tailpipe standards, and low-sulfur low-volatility Georgia gasoline.

Control Measures Modeled

Georgia EPD used the MOBILE6.2 model to calculate motor vehicle emission rates reflecting all Federal and State mobile source control rules, including enhanced vehicle I/M on 25-year-old and newer cars and light trucks; a check for catalytic converter tampering and a gas cap pressure test on all subject vehicles; low-sulfur and low (7.0 pounds per square inch) RVP gasoline; Stage II gasoline refueling vapor recovery; the FMVCP, including Tier 1 and (beginning with 2004 models) Tier 2 tailpipe standards; the National Low Emission Vehicle program; and technician training and certification. The same temperature and humidity data, VMT fractions, and local vehicle age distribution used for the Post-1999 ROP Plan were used in the modeling. See Appendix A of the Post-1999 ROP Plan for further discussion of mobile source modeling.

Estimated Emissions

Table 2 gives the estimated summer day vehicle emissions in the Atlanta area for the years 1999 through 2004. The emission estimates do not include reductions attributable to the Partnership for a Smog-free Georgia, a voluntary mobile source emission reduction program, or from the TCMs incorporated into Georgia's approved 15 percent and 9 percent Plans.

The requirement to offset growth in emissions due to growth in VMT is satisfied by demonstrating no such growth will take place, i.e., that emissions continued to decline through the attainment year of 2004.

Table 2.—Estimated Motor Vehicle Emissions in the Atlanta Area
Year | VOC tons/day | NOX tons/day
1999 | 211.86 | 378.65
2000 | 197.21 | 370.27
2001 | 192.16 | 359.65
2002 | 181.19 | 339.73
2003 | 171.50 | 320.40
2004 | 159.84 | 296.37

As shown in Table 2, estimated motor vehicle emissions of both VOC and NOX decrease through the 2004 attainment year for the Atlanta severe ozone nonattainment area. This decrease of emissions occurs although VMT increased. This analysis demonstrates that there is no need to adopt additional TCMs to meet the severe area ozone standard.

Conclusion

This SIP revision has addressed the requirement of Section 182(d)(1)(A) of the Act that severe ozone nonattainment areas submit a SIP revision that identifies whether it is necessary to adopt TCMs to offset growth in emissions attributable to growth in VMT. According to EPA's guidance for VMT SIPs, section III A(5)(d) of the General Preamble, if projected total motor vehicle emissions during the ozone season in one year are not higher than during the ozone season the year before, given the control measures in the SIP, the VMT offset requirement is satisfied. For each year from 1999 to 2004, typical summer day highway mobile source emissions inventories were estimated for the Atlanta 13-county 1-hour ozone nonattainment area. These inventories, which reflect the most recent planning assumptions available and include all Federal and State mobile source control rules, demonstrate that motor vehicle emissions of both VOC and NOX decreased each year, for a six-year period, through the 2004 attainment year for the Atlanta severe ozone nonattainment area. Therefore, per the Act and EPA policy as stated in the General Preamble, the adoption of TCMs are not required for Atlanta to demonstrate attainment of the one-hour NAAQS standard for ozone.

IV. Proposed Action

Today, EPA is proposing to approve the Georgia's Severe Area Vehicle Miles Traveled SIP for the Atlanta 1-Hour Ozone Nonattainment Area because the plan meets the requirements of the CAA.

V. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve State law as meeting Federal requirements and imposes no additional requirements beyond those imposed by State law. Accordingly, the Administrator certifies that this proposed rule will not have a significant economic impact on a substantial number of small entities under the Regulatory Flexibility Act (5 U.S.C. 601 et seq.). Because this rule proposes to approve pre-existing requirements under State law and does not impose any additional enforceable duty beyond that required by State law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the National Government and the States, or on the distribution of power and responsibilities among the various levels of government, as specified in Executive Order 13132 (64 FR 43255, August 10, 1999). This action merely proposes to approve a State rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Intergovernmental relations, Nitrogen dioxide, Ozone, Particulate matter, Reporting and recordkeeping requirements, Volatile organic compounds.

Authority: 42 U.S.C. 7401 et seq.

Dated: April 1, 2005.
A. Stanley Meiburg,
Acting Regional Administrator, Region 4.

[FR Doc. 05-7333 Filed 4-11-05; 8:45 am]

BILLING CODE 6560-50-P